DEPARTMENT OF HEALTH AND HUMAN SERVICES

Substance Abuse and Mental Health Services Administration

Center for Substance Abuse Treatment; Notice of Meeting

Pursuant to Public Law 92-463, notice is hereby given that the Substance Abuse and Mental Health Services Administration's (SAMHSA) Center for Substance Abuse Treatment (CSAT) National Advisory Council (NAC) will meet on March 28, 2019, 1:00 p.m.-4:30 p.m. (EDT).

The meeting is open and will include consideration of minutes from the SAMHSA CSAT NAC meeting of August 1, 2018; the Director's Report; updates from the Division Directors, discussions on recovery housing, and discussions expanding access to Medication-Assisted Treatment.

The meeting will be held via WebEx and telephone only. Interested persons may present data, information, or views, orally or in writing, on issues pending before the Council. Written submissions should be forwarded to the contact person on or before March 20, 2019. Oral presentations from the public will be scheduled at the conclusion of the meeting. Individuals interested in making oral presentations must notify the contact person on or before March 20, 2019. Five minutes will be allotted for each presentation.

This is an open public meeting that will be conducted via WebEx and telephone. Registration is required to participate during this meeting. To attend virtually, or to obtain the call-in number and access code, submit written or brief oral comments, or request special accommodations for persons with disabilities, please register on-line at http://snacregister.samhsa.gov/MeetingList.aspx, or communicate with the CSAT National Advisory Council Designated Federal Officer; Tracy Goss (see contact information below). Meeting information and a roster of Council members may be obtained by accessing the SAMHSA Committee website at http://www.samhsa.gov/about-us/advisory-councils/csat-national-advisory-council or by contacting the CSAT National Advisory Council Designated Federal Officer; Tracy Goss (see contact information below).

Council Name: SAMHSA's Center for Substance Abuse Treatment National Advisory Council.

Date/Time/Type: March 28, 2019, 1:00 p.m.-4:30 p.m. EDT, Open.

Place: SAMHSA, 5600 Fishers Lane, Rockville, Maryland 20857.

Contact: Tracy Goss, Designated Federal Officer, CSAT National Advisory Council, 5600 Fishers Lane, Rockville, Maryland 20857 (mail). Telephone: (240) 276-0759. Fax: (240) 276-2252. Email: tracy.goss@samhsa.hhs.gov.

Dated: February 26, 2019.
Carlos Castillo,
Committee Management Officer, SAMHSA.

[FR Doc. 2019-03743 Filed 3-1-19; 8:45 am]

BILLING CODE 4162-20-P